DEPARTMENT OF ENERGY

Federal Energy Regulatory Commission

Combined Notice Of Filings #2

Take notice that the Commission received the following electric corporate filings:

Docket Numbers: EC13-141-000

Applicants: Niagara Generation, LLC

Description: Application for Authorization of Transaction Under Section 203 of the Federal Power Act of Niagara Generation, LLC.

Filed Date: 8/29/13

Accession Number: 20130829-5111

Comments Due: 5 p.m. ET 9/19/13

Take notice that the Commission received the following electric rate filings:

Docket Numbers: ER13-2280-000

Applicants: Tucson Electric Power Company

Description: Cancellation of First Revised Rate Schedule No. 308 to be effective 5/13/2013.

Filed Date: 8/29/13

Accession Number: 20130829-5085

Comments Due: 5 p.m. ET 9/19/13

Docket Numbers: ER13-2281-000

Applicants: Southwest Power Pool, Inc.

Description: 1765R6 KCP&L-GMO NITSA and NOAs to be effective 8/1/2013.

Filed Date: 8/29/13

Accession Number: 20130829-5096

Comments Due: 5 p.m. ET 9/19/13

Docket Numbers: ER13-2282-000

Applicants: Southwest Power Pool, Inc.

Description: 2551R1 Kansas Municipal Energy Agency NITSA and NOA to be effective 8/1/2013.

Filed Date: 8/29/13

Accession Number: 20130829-5112

Comments Due: 5 p.m. ET 9/19/13

Docket Numbers: ER13-2283-000

Applicants: PJM Interconnection, L.L.C.

Description: PJM Interconnection, L.L.C. submits Second Quarter 2013 Updates to PJM OA Schedule 12 and RAA Schedule 17 to be effective 6/30/2013.

Filed Date: 8/29/13

Accession Number: 20130829-5150

Comments Due: 5 p.m. ET 9/19/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 29, 2013.
Nathaniel J. Davis, Sr.,
Deputy Secretary.

[FR Doc. 2013-21729 Filed 9-5-13; 8:45 am]

BILLING CODE 6717-01-P